DEPARTMENT OF TRANSPORTATION

Federal Aviation Administration

Geosynchronous Orbit Aeronautical Mobile Satellite Services Aircraft Earth Station Equipment

AGENCY: Federal Aviation Administration, DOT.

ACTION: Notice of availability and requests for public comment.

SUMMARY: This announces the availability of and request comments on a proposed Technical Standard Order (TSO) C-132, Geosynchronous Orbit Aeronautical Mobile Satellite Services Aircraft Earth Station Equipment. The proposed TSO tells manufacturers seeking TSO authorization or letter of design approval what minimum performance standard (MPS) their equipment must first meet to obtain approval and identification with the applicable TSO markings.

DATES: Comments must identify the TSO and arrive by January 30, 2004.

ADDRESSES: Send all comments on the proposed TSO to: Federal Aviation Administration, Aircraft Certification Service, Aircraft Engineering Division, Avionic Systems Branch, Room 815, 800 Independence Avenue, SW., Washington, DC 20591. Attn. Mr. Albert Sayadian, AIR-130. Or, deliver comments to: Federal Aviation Administration, Room 815, 800 Independence Avenue, SW., Washington, DC 20591.

FOR FURTHER INFORMATION CONTACT: Mr. Albert Sayadian, Federal Aviation Administration, Aircraft Certification Service, Aircraft Engineering Division, Avionic Systems Branch, Room 815, 800 Independence Avenue, SW., Washington, DC 20591, Telephone (202) 385-4652, Fax (202) 385-4651. E-mail albert.sayadian@FAA.GOV.

SUPPLEMENTARY INFORMATION:

Comments Invited

You may comment on the proposed TSO listed in this notice by sending such written data, views, or arguments to the above listed address. You may also examine comments received on the proposed TSO, before and after the comment closing date, in Room 815, FAA Headquarters Building, 800 Independence Avenue, SW., Washington, DC 20591, weekdays except Federal holidays, between 8:30 a.m. and 4:30 p.m. The Director of the Aircraft Certification Service will consider all communications received by the closing date before issuing the final TSO.

Background

This proposed TSO applies to Aeronautical Mobile Satellite Services (AMSS) Aircraft Earth Station (AES) equipment that provides direct worldwide communications between aircraft subnetworks and ground sub networks via aeronautical mobile satellites and their ground earth stations. Note that the capability of the AMSS includes the support of both data and voice communications between aircraft and ground-based users. To accomplish this task, the MPS contained in the proposed TSO-C132 will assist manufacturers of geosynchronous orbit AMSS AES articles in their compliance with the applicable requirements of RTCA Document Number (RTCA/DO) 210D, Minimum Operational Performance Standards (MOPS) for Geosynchronous Orbit Aeronautical Mobile Satellite Services Avionics, dated April 19, 2000.

How To Get Copies

You may get a copy of the proposed TSO via the Internet at, http://www.faa.gov/certification/aircraft/TSOA.htm, or by contacting the person listed in the section titled FOR FURTHER INFORMATION CONTACT.

Issued in Washington, DC, on December 19, 2003.
Susan J.M. Cabler,
Assistant Manager, Aircraft Engineering Division, Aircraft Certification Service.

[FR Doc. 03-32089 Filed 12-30-03; 8:45 am]

BILLING CODE 4910-13-M